DEPARTMENT OF COMMERCE

National Oceanic and Atmospheric Administration

RIN 0648-XV08

Western Pacific Fishery Management Council; Public Meeting

AGENCY: National Marine Fisheries Service (NMFS), National Oceanic and Atmospheric Administration (NOAA), Commerce.

ACTION: Notice of a public meeting.

SUMMARY: The Western Pacific Fishery Management Council (Council) will hold a meeting of its Sea Turtle Advisory Committee (STAC) in Honolulu, HI.

DATES: The STAC meeting will be held on Tuesday, March 30, 2010, from 8:30 a.m. to 5:30 p.m. and Wednesday, March 31, 2010, from 8:30 a.m. to noon.

ADDRESSES: The meeting will be held at the Council Office Conference Room, 1164 Bishop Street, Suite 1400, Honolulu, HI; telephone: (808) 522-8220.

FOR FURTHER INFORMATION CONTACT: Kitty M. Simonds, Executive Director; telephone: (808) 522-8220.

SUPPLEMENTARY INFORMATION: The STAC will review the Council's 2009 sea turtle conservation projects and other relevant activities and may produce recommendations for future program direction.

Agenda:

8:30 a.m., Tuesday, March 30, 2010

1. Introduction

2. Approval of the Agenda

3. Review of Recommendations from the 5th STAC Meeting

4. Overview of 2009-2010 Council Sea Turtle Program

5. Update of Sea Turtle Interactions in Hawaii-based Fisheries

6. Review of 2009 Contracts

7. Discussion: Role of the Council's Sea Turtle Program

8. Update of the U.S. National Research Council's Review of Sea Turtle Population Assessment Methods

9. Update of the International Union for Conservation of Nature Marine Turtle Specialist Group Red List Regional Assessment for the Hawaiian Green Turtles

8:30 a.m., Wednesday, March 31, 2010

10. Overview of Agency Activities

11. Updates from STAC Members: Ongoing Projects and Recent Developments

12. Recommendations from the STAC

13. Next Meeting and Meeting Wrap-up

The order in which agenda items are addressed may change. The Committee will meet as late as necessary to complete scheduled business.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

The meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: March 9, 2010.
Tracey L. Thompson,
Acting Director, Office of Sustainable Fisheries, National Marine Fisheries Service.

[FR Doc. 2010-5450 Filed 3-11-10; 8:45 am]

BILLING CODE 3510-22-S